DEPARTMENT OF AGRICULTURE

Forest Service

Notice of New Fee Site; Federal Lands Recreation Enhancement Act

AGENCY: Coronado National Forest, USDA Forest Service, Tucson, Arizona.

ACTION: Notice of New Fee Site.

SUMMARY: The Coronado National Forest is proposing to charge a fee for the overnight rental of the Palisades Ranger Residence, located on the Santa Catalina Ranger District approximately 20 miles north of Tucson, Arizona. The building was constructed in 1933 by the Civilian Conservation Corps and has been determined eligible for listing on the National Register of Historic Places. The proposed fee will be $125.00 per night, to accommodate up to four people. Other cabin rentals on National Forests in Arizona have shown that the public appreciates the enhanced recreational opportunity afforded by these rehabilitated historic structures. Revenues from the rentals will be used for the continued operation and maintenance of this facility and other properties in the Arizona “Rooms with a View” Cabin Rental Program.

DATES: Send any comments regarding this fee proposal by April 26, 2013. Comments will be compiled, analyzed, and shared with the BLM-Arizona Recreation Resource Advisory Council (RRAC). Palisades Cabin is scheduled to become available for rent in fall of 2013. Please send comments to: Forest Supervisor, Coronado National Forest, 300 West Congress, Tucson, AZ 85701.

FOR FURTHER INFORMATION CONTACT: Kathy Makansi, Archaeologist, Coronado National Forest at (520) 760-2502 or by email at kmakansi@fs.fed.us.

SUPPLEMENTARY INFORMATION: The Federal Recreation Lands Enhancement Act (Title VII, Pub. L. 108-447) directed the Secretary of Agriculture to publish a six month advance notice in the Federal Register whenever new recreation fee areas are established. The Coronado National Forest currently has four other rental facilities. These facilities are booked regularly throughout the year. A business analysis for the rental of the Palisades Ranger Residence shows public interest in this sort of recreational experience on the Coronado National Forest. A market analysis indicates that the $125.00 daily fee is both reasonable and acceptable for this sort of unique recreational experience.

People wanting to rent the Palisades Ranger Residence will need to do so through the National Recreation Reservation Service at www.recreation.gov, or by calling 1-877-444-6777. The National Recreation Reservation Service charges a $9 reservation fee for Internet reservations and a $10 reservation fee for phone reservations.

Dated: January 2, 2013.
Jim Upchurch,
Forest Supervisor, Coronado National Forest.

[FR Doc. 2013-00332 Filed 1-10-13; 8:45 am]

BILLING CODE 3410-11-M